DEPARTMENT OF HOMELAND SECURITY

Federal Emergency Management Agency

44 CFR Part 67

[Docket ID FEMA-2010-0003; Internal Agency Docket No. FEMA-B-1145]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before January 5, 2011.

ADDRESSES: The corresponding preliminary Flood Insurance Rate Map (FIRM) for the proposed BFEs for each community is available for inspection at the community's map repository. The respective addresses are listed in the table below.

You may submit comments, identified by Docket No. FEMA-B-1145, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
City of Suffolk, Virginia
Virginia | City of Suffolk | Hampton Roads | From the intersection of Sandy Drive and South Road to approximately 310 feet south, extending approximately 500 feet west along Sandy Drive | None | +8
Virginia | City of Suffolk | Unnamed Ponding areas controlled by Hampton Roads | From the intersection of Sandy Drive and Hampton Road to approximately 1,100 feet south, and extending approximately 510 feet east along Sandy Drive | None | +8
* National Geodetic Vertical Datum.
# Depth in feet above ground.
+ North American Vertical Datum.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Suffolk
Maps are available for inspection at Suffolk City Manager's Office, 441 Market Street, Suffolk, VA 23434.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Clay County, Arkansas, and Incorporated Areas
Cypress Creek Ditch | Just upstream of Corridor 143 | None | +283 | City of Corning, Unincorporated Areas of Clay County.
| Approximately 0.54 mile downstream of Corridor 142 | None | +289
Sugar Creek | Approximately 1,255 feet downstream of Pfeiffer Street | None | +282 | Unincorporated Areas of Clay County.
| Approximately 0.57 mile upstream of the confluence with Club Drain | None | +317
Tributary 2 | Approximately 1,350 feet upstream of West Jackson Street | None | +329 | Unincorporated Areas of Clay County.
Victory Lake | Approximately 0.5 mile upstream of Union Pacific Railroad | None | +281 | City of Corning, Unincorporated Areas of Clay County.
| Approximately 1.15 mile upstream of Process Road | None | +283
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Corning
Maps are available for inspection at City Hall, 304 Southwest 2nd Street, Corning, AR 72422.
Unincorporated Areas of Clay County
Maps are available for inspection at the Clay County Courthouse, 168 East Main Street, Piggott, AR 72454.
Montgomery County, Indiana, and Incorporated Areas
Dry Branch | At the confluence with Sugar Creek | None | +659 | City of Crawfordsville, Unincorporated Areas of Montgomery County.
| Approximately 0.5 mile upstream of Joe Allen Parkway | None | +766
Sugar Creek | Approximately 1.2 mile downstream of NYC Railroad | None | +647 | City of Crawfordsville, Unincorporated Areas of Montgomery County.
| Approximately 0.38 mile upstream of I-74 | None | +689
Unnamed Tributary Dry Branch | At the confluence with Dry Branch | None | +698 | City of Crawfordsville, Unincorporated Areas of Montgomery County.
| Approximately 260 feet upstream of County Road 150 South | None | +791
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Crawfordsville
Maps are available for inspection at the Planning and Community Development Department, 300 East Pike Street, Crawfordsville, IN 47933.
Unincorporated Areas of Montgomery County
Maps are available for inspection at the Montgomery County South Boulevard Building, 110 West South Boulevard, Crawfordsville, IN 47933.
Morehouse Parish, Louisiana, and Incorporated Areas
Horse Bayou | Just upstream of Cherry Ridge Road | None | +98 | City of Bastrop, Unincorporated Areas of Morehouse Parish.
| Approximately 140 feet upstream of Louisiana Highway 830-4 | None | +122
Staulking Head Creek | Approximately 489 feet downstream of Henry Avenue | None | +84 | City of Bastrop, Unincorporated Areas of Morehouse Parish.
| Approximately 520 feet upstream of Cleveland Street | None | +114
W-10 Canal | Approximately 4,330 feet downstream of the dam | None | +91 | City of Bastrop, Unincorporated Areas of Morehouse Parish.
| Approximately 2,382 feet upstream of the dam | None | +102
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Bastrop
Maps are available for inspection at 202 East Jefferson Street, Room 230, Bastrop, LA 71221.
Unincorporated Areas of Morehouse Parish
Maps are available for inspection at 125 East Madison Avenue, Bastrop, LA 71220.
Cecil County, Maryland, and Incorporated Areas
Back Creek | Approximately 224 feet downstream of 2nd Street | None | +11 | Unincorporated Areas of Cecil County.
| Approximately 1,136 feet upstream of Old Telegraph Road | None | +11
Big Elk Creek | At West Pulaski Road | +11 | +12 | Town of Elkton, Unincorporated Areas of Cecil County.
| Approximately 1,140 feet downstream of Elk Mills Road | None | +80
Bohemia River | At Augustine Herman Highway | None | +11 | Unincorporated Areas of Cecil County.
| Approximately 860 feet upstream of Old Telegraph Road | None | +11
Chesapeake and Delaware Canal | Approximately 0.92 mile upstream of Augustine Herman Highway | None | +11 | Unincorporated Areas of Cecil County.
| Approximately 1.96 mile upstream of Augustine Herman Highway | None | +11
Christina Creek | Approximately 647 feet downstream of Little Egypt Road | +179 | +181 | Unincorporated Areas of Cecil County.
| Approximately 977 feet downstream of Elbow Road | +259 | +260
Dogwood Run | At the confluence with Little Elk Creek | +21 | +22 | Town of Elkton, Unincorporated Areas of Cecil County.
| Approximately 422 feet upstream of the confluence with Little Elk Creek | +21 | +22
Gravelly Run | At the confluence with Little Elk Creek | None | +50 | Unincorporated Areas of Cecil County.
| Approximately 246 feet downstream of Blue Ball Road | None | +57
Hall Creek | At Glebe Road | None | +11 | Unincorporated Areas of Cecil County.
| Approximately 0.86 mile upstream of Mill Lane | None | +11
Herring Creek | Approximately 2.74 miles downstream of Augustine Herman Highway | None | +11 | Unincorporated Areas of Cecil County.
| Approximately 1,609 feet downstream of Augustine Herman Highway | None | +11
Laurel Run | At the confluence with Little Elk Creek | None | +40 | Unincorporated Areas of Cecil County.
| Approximately 1,500 feet downstream of the confluence with West Branch Laurel Run | None | +59
Little Bohemia Creek | At the confluence with Bohemia Creek | None | +11 | Unincorporated Areas of Cecil County.
| At Bohemia Church Road | None | +11
Little Elk Creek | Approximately 631 feet downstream of West Pulaski Highway | +11 | +14 | Town of Elkton, Unincorporated Areas of Cecil County.
| Approximately 1,220 feet downstream of Elkton Road | +15 | +16
Little Elk Creek | Approximately 425 feet downstream of the confluence with Laurel Run | None | +40 | Unincorporated Areas of Cecil County.
| Approximately 910 feet downstream of Heron Lane | None | +58
Little Northeast Creek | Approximately 210 feet upstream of Pulaski Highway | +37 | +39 | Unincorporated Areas of Cecil County.
| Approximately 115 feet upstream of Mechanics Valley Road | +52 | +53
Long Creek | At Boat Yard Road | None | +11 | Unincorporated Areas of Cecil County.
| At Woods Road | None | +11
Mill Creek | Approximately 52 feet downstream of Chessie System Railroad | +104 | +106 | Unincorporated Areas of Cecil County.
| Approximately 260 feet downstream of Principio Road | +283 | +284
Mill Creek (Tributary to Little Elk Creek) | Approximately 1,624 feet downstream of Old Elk Neck Road | None | +11 | Unincorporated Areas of Cecil County.
| Approximately 1,939 feet upstream of Old Elk Neck Road | None | +11
Northeast Creek | Approximately 76 feet downstream of Main Street | +11 | +13 | Town of North East, Unincorporated Areas of Cecil County.
| Approximately 125 feet downstream of Chessie System Railroad | +71 | +72
Perch Creek | Approximately 0.49 mile downstream of Augustine Herman Highway | None | +11 | Unincorporated Areas of Cecil County.
| At Augustine Herman Highway | None | +11
Plum Creek | Approximately 1.32 mile downstream of Old Field Point Road | None | +11 | Unincorporated Areas of Cecil County.
| Approximately 1,154 feet upstream of Old Elk Neck Road | None | +11
Susquehanna River | Approximately 1.75 mile upstream of I-95 | +11 | +12 | Unincorporated Areas of Cecil County.
| At U.S. Route 1 | +37 | +38
Tributary 1 To Stone Run | Approximately 0.4 mile downstream of Mount Street | +282 | +283 | City of Rising Sun, Unincorporated Areas of Cecil County.
| Approximately 995 feet downstream of Main Street | +327 | +330
Unnamed Tributary To Laurel Run | Approximately 230 feet upstream of the confluence with Laurel Run | None | +41 | Unincorporated Areas of Cecil County.
| Approximately 1,400 feet upstream of the confluence with Laurel Run | None | +52
West Branch Christina River | Approximately 525 feet downstream of Vieves Way | +143 | +144 | Unincorporated Areas of Cecil County.
| Approximately 332 feet upstream of Barksdale Road | +156 | +157
West Branch Laurel Run | Approximately 494 feet upstream of the confluence with Laurel Run | None | +64 | Unincorporated Areas of Cecil County.
| Approximately 93 feet upstream of Marley Road | None | +74
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Rising Sun
Maps are available for inspection at City Hall, 1 East Main Street, Rising Sun, MD 21911.
Town of Elkton
Maps are available for inspection at the Town Hall, 100 Railroad Avenue, Elkton, MD 21921.
Town of North East
Maps are available for inspection at the Town Hall, 106 South Main Street, North East, MD 21901.
Unincorporated Areas of Cecil County
Maps are available for inspection at the Cecil County Office Of Planning and Zoning, 200 Chesapeake Boulevard, Suite 2300, Elkton, MD 21921.
Walsh County, North Dakota, and Incorporated Areas
Red River of the North | Approximately 2,000 feet downstream of 77th Street Northeast extended | None | +802 | Unincorporated Areas of Walsh County.
| Approximately 260 feet upstream of North Dakota Highway 54 | None | +812
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Unincorporated Areas of Walsh County
Maps are available for inspection at 600 Cooper Avenue, Grafton, ND 58237.
Schuylkill County, Pennsylvania (All Jurisdictions)
Little Schuylkill River | Approximately 1,750 feet downstream of State Route 895 bridge | None | +548 | Township of East Brunswick.
| Approximately at the railroad bridge | None | +563
Mahanoy Creek | Approximately 0.71 mile upstream of Rice Road | None | +781 | Township of Butler.
| Approximately 560 feet upstream of the railroad bridge | None | +811
Schuylkill River | Approximately 1,349 feet upstream of Mount Carbon Arch Road | None | +594 | Borough of Mechanicsville, Borough of Palo Alto.
| Approximately 100 feet upstream of Coal Street | None | +631
West Branch Schuylkill River | Approximately 1,582 feet upstream of East Sunbury Street | None | +702 | Township of New Castle, Township of Norwegian.
| Approximately 169 feet upstream of the intersection of Greenbury Road and State Route 4002 | None | +848
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Mechanicsville
Maps are available for inspection at the Mechanicsville Borough Hall, 1342 Pottsville Street, Mechanicsville Borough Hall, PA 17901.
Borough of Palo Alto
Maps are available for inspection at the Borough Hall, 142 East Bacon Street, Palo Alto, PA 17901.
Township of Butler
Maps are available for inspection at the Butler Township Municipal Building, 211 Broad Street, Ashland, PA 17921.
Township of East Brunswick
Maps are available for inspection at the East Brunswick Township Municipal Building, 55 West Catawissa Street, New Ringgold, PA 17960.
Township of New Castle
Maps are available for inspection at the New Castle Township Municipal Building, 248-250 Broad Street, Saint Clair, PA 17970.
Township of Norwegian
Maps are available for inspection at the Norwegian Township Municipal Building, 506 Maple Avenue, Marlin, PA 17951.
Darlington County, South Carolina, and Incorporated Areas
Beaverdam Creek | At the confluence with Black Creek | None | +178 | Unincorporated Areas of Darlington County.
| Approximately 0.7 mile upstream of Bobo Newsom Highway | None | +189
Black Creek (DS) | Approximately 0.5 mile downstream of Muses Bridge Road | None | +77 | City of Darlington, Unincorporated Areas of Darlington County.
| Just downstream of Society Hill Road | None | +102
Black Creek | Approximately 1.4 mile downstream of Patrick Highway | None | +158 | City of Hartsville, Unincorporated Areas of Darlington County.
| Approximately 0.5 mile downstream of New Market Road | None | +178
Black Creek (US) | Approximately 1,148 feet downstream of West Old Camden Road | None | +189 | Unincorporated Areas of Darlington County.
| Approximately 2.6 miles upstream of West Old Camden Road | None | +227
Black Creek Tributary 1 | At the confluence with Black Creek | None | +85 | Unincorporated Areas of Darlington County.
| Approximately 0.5 mile upstream of the confluence with Black Creek | None | +86
Great Pee Dee River | Approximately 927 feet downstream of North Main Street | None | +82 | Unincorporated Areas of Darlington County.
| At the confluence with Cedar Creek | None | +84
High Hill Creek | Approximately 67 feet downstream of Pisgah Road | None | +89 | Unincorporated Areas of Darlington County.
| Approximately 140 feet upstream of Ebenezer Road | None | +110
Indian Creek | At the confluence with Swift Creek | None | +117 | City of Darlington, Unincorporated Areas of Darlington County.
| Approximately 0.5 mile upstream of Rogers Road | None | +142
McCalls Branch | Approximately 1,441 feet downstream of I-20 | None | +166 | Unincorporated Areas of Darlington County.
| Approximately 364 feet upstream of Buck Reynolds Road | None | +176
Newman Swamp | Approximately 445 feet downstream of Zion Road | None | +149 | Town of Lamar, Unincorporated Areas of Darlington County.
| Approximately 1,860 feet upstream of Lamar Highway | None | +152
Spring Branch | At the confluence with Black Creek | None | +159 | Unincorporated Areas of Darlington County.
| Approximately 0.9 mile upstream of North 5th Street | None | +187
Star Fork Branch | At the confluence with High Hill Creek | None | +103 | Unincorporated Areas of Darlington County.
| Approximately 325 feet upstream of Ebenezer Road | None | +114
Star Fork Branch Tributary 1 | At the confluence with Star Fork Branch | None | +103 | Unincorporated Areas of Darlington County.
| Approximately 733 feet downstream of Ebenezer Road | None | +120
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Darlington
Maps are available for inspection at 400 Pearl Street, Darlington, SC 29532.
City of Hartsville
Maps are available for inspection at 133 West Carolina Avenue, Hartsville, SC 29551.
Town of Lamar
Maps are available for inspection at 117 Main Street, Lamar, SC 29069.
Unincorporated Areas of Darlington County
Maps are available for inspection at 1 Public Square, Room 405, Darlington, SC 29532.
Navarro County, Texas, and Incorporated Areas
Harris Branch of Richland Creek | Approximately 1,300 feet upstream of Southwest County Road 1070 | None | +406 | City of Corsicana, Unincorporated Areas of Navarro County.
| Approximately 1,600 feet downstream of West Cowhead Road | None | +435
Harris Branch of Richland Creek Tributary 1 | Just upstream of the confluence with Harris Branch of Richland Creek | None | +417 | City of Corsicana.
| Approximately 900 feet upstream of the confluence with Harris Branch of Richland Creek | None | +422
Harris Branch of Richland Creek Tributary 2 | Just upstream of the confluence with Harris Branch of Richland Creek | None | +423 | City of Corsicana.
| Approximately 1,150 feet upstream of the confluence with Harris Branch of Richland Creek | None | +425
Harris Branch of Richland Creek Tributary 3 | Just upstream of the confluence with Harris Branch of Richland Creek | None | +423 | City of Corsicana.
| Approximately 0.28 mile upstream of the confluence with Harris Branch of Richland Creek | None | +430
Harris Branch of Richland Creek Tributary 5 | Just upstream of the confluence with Harris Branch of Richland Creek | None | +424 | City of Corsicana.
| Approximately 0.44 mile upstream of the confluence with Harris Branch of Richland Creek | None | +432
Little Harris Branch | Just upstream of the confluence with Harris Branch of Richland Creek | None | +406 | City of Corsicana, Unincorporated Areas of Navarro County.
| Approximately 0.58 mile upstream of the confluence with Harris Branch of Richland Creek | None | +424
Little Mesquite Branch | Approximately 1,500 feet downstream of the confluence with Mesquite Branch | None | +384 | City of Corsicana.
| Approximately 750 feet downstream of I-45 | None | +403
Post Oak Creek | Approximately 750 feet upstream of County Road 10 | None | +347 | Unincorporated Areas of Navarro County.
| Approximately 900 feet upstream of the confluence with Post Oak Creek Tributary 7 | None | +416
Post Oak Creek Tributary 5 | Just upstream of Burlington Northern Santa Fe Railroad | +418 | +416 | City of Corsicana.
| Just upstream of Forrest Lane | +430 | +427
Post Oak Creek Tributary 7 | Approximately 250 feet downstream of Bowie Circle | None | +414 | City of Corsicana, Unincorporated Areas of Navarro County.
| Approximately 775 feet upstream of Ryan Drive | None | +440
Town Branch | Approximately 550 feet upstream of 24th Street | None | +454 | City of Corsicana.
| Approximately 900 feet upstream of 24th Street | None | +457
Tributary of Little Mesquite Branch | Just upstream of the confluence with Little Mesquite Branch | None | +330 | City of Corsicana.
| Approximately 825 feet upstream of U.S. Route 287 | None | +409
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Corsicana
Maps are available for inspection at City Hall, 200 North 12th Street, Corsicana, TX 75110.
Unincorporated Areas of Navarro County
Maps are available for inspection at the Navarro County Courthouse, 300 West 3rd Avenue, Corsicana, TX 75110.

(Catalog of Federal Domestic Assistance No. 97.022, “Flood Insurance.”)

Dated: September 21, 2010.
Edward L. Connor,
Acting Federal Insurance and Mitigation Administrator, Department of Homeland Security, Federal Emergency Management Agency.

[FR Doc. 2010-25340 Filed 10-6-10; 8:45 am]

BILLING CODE 9110-12-P